DEPARTMENT OF THE INTERIOR

Bureau of Land Management

[WO-250-1231-EB-24 1A]

Extension of Approved Information Collection, OMB Control Number 1004-0119

AGENCY: Bureau of Land Management, Interior.

ACTION: Notice and request for comments.

SUMMARY: In accordance with the Paperwork Reduction Act of 1995, the Bureau of Land Management (BLM) requests the Office of Management and Budget (OMB) to extend an existing approval to collect certain information from recreation visitors to areas of the public lands and related waters where we require special recreation permits. BLM uses Form 2930-1, Special Recreation Application and Permit, to collect this information. This information allows the BLM to authorize requested recreation use and determine appropriate fees. BLM will also use the information to tabulate recreation use data for the annual Federal Recreation Fee Report as required by the Land and Water Conservation Act.

DATE: You must submit your comments to BLM at the address below on or before August 21, 2006. BLM will not necessarily consider any comments received after the above date.

ADDRESSES: You may mail comments to: Bureau of Land Management, (WO-630), Eastern States Office, 7450 Boston Blvd., Springfield, Virginia 22153.

You may send comments via Internet to: comments_washington@blm.gov. Please include “ATTN: 1004-0119” and your name and return address in your Internet message.

You may deliver comments to the Bureau of Land Management, Administrative Record, Room 401, 1620 L Street, NW., Washington, DC.

All comments will be available for public review at the L Street address during regular business hours (7:45 a.m. to 4:15 p.m.), Monday through Friday.

FOR FURTHER INFORMATION CONTACT: You may contact Anthony Bobo, on (202) 452-0333 (Commercial or FTS). Persons who use a telecommunications device for the deaf (TDD) may call the Federal Information Relay Service (FIRS) on 1-800-877-8330, 24 hours a day, seven days a week, to contact Mr. Bobo.

SUPPLEMENTARY INFORMATION: 5 CFR 1320.12(a) requires BLM to provide a 60-day notice in Federal Register concerning a collection of information to solicit comments on:

(a) Whether the proposed collection of information is necessary for the proper functioning of the agency, including whether the information will have practical utility;

(b) The accuracy of our estimates of the information collection burden, including the validity of the methodology and assumptions we use;

(c) Ways to enhance the quality, utility, and clarity of the information collected; and

(d) Ways to minimize the burden of the information collection on those who are to respond, including the use of appropriate automated, electronic, mechanical, or other technological collection techniques or other forms of information technology.

Respondents submit Form 2930-1, Special Recreation Application and Permit, to supply identifying information and data on proposed commercial, competitive, or individual recreation use. This information allows the BLM to authorize requested recreation use and determine appropriate fees. We will also use this information to tabulate recreation use data for the annual Federal Recreation Fee Report as required by the Land and Water Conservation Act.

Based on BLM's experience administering these activities, we estimate the public reporting burden for the information collected is 30 minutes per response. The respondents are recreation visitors to areas of the public land and related waters where we require special recreation permits. The frequency of response is on occasion. We estimate the number of responses per year is 31,000 and a total annual burden of 15, 500 hours.

BLM will summarize all responses to this notice and include them in the request for OMB approval. All comments will be come a matter of public record.

Dated: June 7, 2006.
Ted R. Hudson,
Bureau of Land Management, Information Collection Clearance Officer.

[FR Doc. 06-5556 Filed 6-20-06; 8:45 am]

BILLING CODE 4310-84-M